DEPARTMENT OF HEALTH AND HUMAN SERVICES

Centers for Medicare & Medicaid Services

[CMS-9978-N2]

Public Meeting of the Consumer Operated and Oriented Plan (CO-OP) Advisory Board, March 14, 2011

AGENCY: Centers for Medicare & Medicaid Services (CMS), HHS.

ACTION: Notice of meeting.

SUMMARY: This notice announces the third meeting of an advisory committee to the Center for Consumer Information and Insurance Oversight (CCIIO) in accordance with the Federal Advisory Committee Act. The meeting is open to the public. The purpose of the meeting is to assist and advise the Secretary and the Congress on the Department's strategy to foster the creation of qualified nonprofit health insurance issuers. Specifically, the Committee shall advise the Secretary and the Congress concerning the award of grants and loans related to Section 1322 of the Affordable Care Act, which provides for a Federal program to assist establishment and operation of nonprofit, member run health insurance issuers. In these matters, the Committee shall consult with all components of the Department, other federal entities, and non-Federal organizations, as appropriate; and examine relevant data sources to assess the grant and loan award strategy to provide recommendations to CCIIO.

DATES: Meeting Date: March 14, 2011 from 8:30 a.m. to 5 p.m., Eastern Standard Time (EST) Deadline for Meeting Registration, Presentations and Comments: March 10, 2011, 5 p.m., EST. Deadline for Requesting Special Accommodations: March 10, 2011, 5 p.m., EST.

ADDRESSES: Meeting Location: Madison Hotel, 1177 15th Street, NW., Washington, DC 20005.

Meeting Online Access: To participate in this meeting via the Internet, go to http://www.readyshow.com/ and enter participant code 49888151. Note that audio of the meeting will only be broadcast through the conference phone line.

Meeting Phone Access: To participate in this meeting via phone, please dial into the toll free phone number 1-888-299-4099, and provide the following code to the operator: VW38426.

Meeting Registration, Presentations, and Written Comments: Anne Bollinger, Center for Consumer Information and Insurance Oversight, CMS, 200 Independence Avenue, SW., Washington, DC 20201, 301-492-395, Fax: 301-492-4462, or contact by e-mail at anne.bollinger@hhs.gov. Written comments must be submitted in Word format.

Registration: The meeting is open to the public, but attendance is limited to the space available. Persons wishing to attend this meeting must register by contacting the designated Federal official at the address listed in the ADDRESSES section of this notice or by telephone at the number listed in the FOR FURTHER INFORMATION CONTACT section of this notice, by the date listed in the DATES section of this notice.

FOR FURTHER INFORMATION CONTACT: Anne Bollinger, 301-492-4395. Press inquiries are handled through CCIIO's Press Office at (202) 690-6343.

SUPPLEMENTARY INFORMATION:

I. Background

The purpose of the meeting is to assist and advise the Secretary and the Congress on the Department's strategy to foster the creation of qualified nonprofit health insurance issuers. Specifically, the Committee shall advise the Secretary and the Congress concerning the award of grants and loans related to section 1322 of the Affordable Care Act, which provides for a Federal program to assist establishment and operation of nonprofit, member run health insurance issuers. In these matters, the Committee shall consult with all components of the Department, other Federal entities, and non-Federal organizations, as appropriate; and examine relevant data sources to assess the grant and loan award strategy to provide recommendations to CCIIO.

II. Meeting Agenda

The Committee will hear comments from the public and then begin deliberations on proposed recommendations presented by the work groups from the Committee. CCIIO intends to make background material available to the public no later than two (2) business days prior to the meeting. If CCIIO is unable to post the background material on its Web site prior to the meeting, it will be made publicly available at the location of the advisory committee meeting, and the background material will be posted on CCIIO's Web site after the meeting, at http://hhs.gov/CCIIO.

Oral comments from the public will be scheduled between approximately 8:30 a.m.-9:30 a.m. Individuals or organizations that wish to make a 3-minute oral presentation on an agenda topic should submit a written copy in Word format of the oral presentation to the designated federal official (DFO) at the address listed in the ADDRESSES section of this notice by the date listed in the DATES section of this notice. The number of oral presentations may be limited by the time available. Persons attending CCIIO's advisory committee meetings are advised that the agency is not responsible for providing access to electrical outlets. If the number of speakers requesting to comment is greater than can be reasonably accommodated during the scheduled open public comment session, CCIIO will take written comments after the meeting until close of business. Individuals not wishing to make a presentation may submit written comments in Word format to the DFO at the address listed in the ADDRESSES section of this notice by the date listed in the DATES section of this notice.

Individuals requiring sign language interpretation or other special accommodations must contact the DFO via the contact information specified in the FOR FURTHER INFORMATION CONTACT section of this notice by the date listed in the DATES section of this notice.

CCIIO is committed to the orderly conduct of its advisory committee meetings. Please visit our Web site at http://www.hhs.gov/CCIIO for procedures on public conduct during advisory committee meetings.

(Catalog of Federal Domestic Assistance Program No. 93.773, Medicare—Hospital Insurance; and Program No. 93.774, Medicare—Supplementary Medical Insurance Program)

Dated: February 24, 2011.
Donald M. Berwick,
Administrator, Centers for Medicare & Medicaid Services.

[FR Doc. 2011-4556 Filed 2-25-11; 11:15 am]

BILLING CODE 4120-01-P